DEPARTMENT OF HEALTH AND HUMAN SERVICES

Centers for Disease Control and Prevention

[Docket No. CDC-2025-0024]

Meeting of the Advisory Committee on Immunization Practices; Amended Notice of Meeting

AGENCY: Centers for Disease Control and Prevention, Department of Health and Human Services (HHS).

ACTION: Notice.

SUMMARY: In accordance with the Federal Advisory Committee Act, the Centers for Disease Control and Prevention (CDC) announces an amendment to the following meeting of the Advisory Committee on Immunization Practices (ACIP). The meeting is open to the public.

FOR FURTHER INFORMATION CONTACT: Ms. Stephanie Thomas, Committee Management Specialist, Advisory Committee on Immunization Practices, National Center for Immunization and Respiratory Diseases, Centers for Disease Control and Prevention, 1600 Clifton Road NE, Mailstop H24-8, Atlanta, Georgia 30329-4027. Telephone: (404) 639-8836; Email: ACIP@cdc.gov.

SUPPLEMENTARY INFORMATION: Notice is hereby given of a change in the meeting of the Advisory Committee on Immunization Practices (ACIP); June 25, 2025, from 8 a.m. to 5 p.m., EDT, June 26, 2025, from 8 a.m. to 5 p.m., EDT, and June 27, 2025, 8 a.m. to 3 p.m., EDT.

Notice of the virtual meeting was published in the Federal Register on June 9, 2025, Volume 90, Number 109, pages 24278-24279.

The meeting notice is being amended to update the dates, which should read as follows:

The meeting will be held on June 25, 2025, from 10 a.m. to 5:30 p.m., EDT and June 26, 2025, from 8 a.m. to 1 p.m., EDT.

The meeting notice is also being amended to update the Matters to be Considered to read as follows: The agenda will include discussions on anthrax vaccines, chikungunya vaccines, COVID-19 vaccines, influenza vaccines, measles, mumps, rubella, varicella (MMRV) vaccine, Respiratory Syncytial Virus (RSV) vaccines for maternal and pediatric populations, and an update on work groups. Recommendation votes are scheduled for influenza vaccines, and RSV vaccine for maternal and pediatric populations. A Vaccines for Children (VFC) vote is scheduled for RSV vaccines.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-11567 Filed 6-23-25; 8:45 am]

BILLING CODE 4163-18-P